NATIONAL AERONAUTICS AND SPACE ADMINISTRATION

[Notice (06-070)]

Government-Owned Inventions, Available for Licensing

AGENCY: National Aeronautics and Space Administration.

ACTION: Notice of availability of inventions for licensing.

SUMMARY: The inventions listed below assigned to the National Aeronautics and Space Administration, have been filed in the United States Patent and Trademark office, and are available for licensing.

DATES: September 26, 2006.

FOR FURTHER INFORMATION CONTACT: David Walker, Patent Counsel, Goddard Space Flight Center, Mail Code 140.1, Greenbelt, MD 20771-0001; telephone (301) 286-7351; fax (301) 286-9502.

NASA Case No. GSC-14480-2: Gear Bearings;

NASA Case No. GSC-15027-1: Interferometric Polarization Control;

NASA Case No. GSC-14979-1: Modular Gear Bearings;

NASA Case No. GSC-15038-1: System and Method of Self-Properties for An Autonomous and Automatic Computer Environment.

Dated: September 19, 2006.
Keith T. Sefton,
Deputy General Counsel, Administration and Management.

[FR Doc. E6-15686 Filed 9-25-06; 8:45 am]

BILLING CODE 7510-13-P